DEPARTMENT OF JUSTICE

Parole Commission

Public Announcement Pursuant to the Government in the Sunshine Act (Pub. L. 94-409) [5 U.S.C. Section 552b]

Agency Holding Meeting: Department of Justice, United States Parole Commission.

Time and Date: 10 a.m., Thursday, January 21, 2010.

Place: 5550 Friendship Blvd., Fourth Floor, Chevy Chase, MD 20815.

Status: Open.

Matters to be Considered: The following matters have been placed on the agenda for the open Parole Commission meeting:

1. Approval of Minutes of October 6, 2009 Quarterly Business Meeting.

2. Reports from the Chairman, Commissioners, and Section Administrators.

3. Public Comment on Interim Rules Implementing the Equitable Street Time Credit Amendment Act.

4. Summons vs. Warrant Pilot.

5. Residential Substance Abuse Treatment Program (RSAT) & Secure Residential Treatment Program (SRTP) Funding.

6. Victims Witness Program.

Agency Contact: Patricia W. Moore, Staff Assistant to the Chairman, United States Parole Commission, (301) 492-5933.

Dated: January 12, 2010.
Rockne J. Chickinell,
General Counsel, U.S. Parole Commission.

[FR Doc. 2010-1026 Filed 1-20-10; 8:45 am]

BILLING CODE 4410-31-M